SMALL BUSINESS ADMINISTRATION

[Disaster Declaration # 10111 and # 10112]

Pennsylvania Disaster # PA-00001 Disaster Declaration

AGENCY: U.S. Small Business Administration.

ACTION: Notice.

SUMMARY: This is a Notice of the Presidential declaration of a major disaster for the State of Pennsylvania (FEMA—1587-DR ), dated 4/14/2005.

Incident: Flooding.

Incident Period: 4/2/2005 through 4/3/2005.

Effective Date: 4/14/2005.

Physical Loan Application Deadline Date: 6/14/2005.

EIDL Loan Application Deadline Date: 1/9/2006.

ADDRESSES: Submit completed loan applications to: U.S. Small Business Administration, Disaster Area Office 1, 360 Rainbow Blvd. South 3rd Floor, Niagara Falls, NY 14303.

FOR FURTHER INFORMATION CONTACT: A. Escobar, Office of Disaster Assistance, U.S. Small Business Administration, 409 3rd Street, Suite 6050, Washington, DC 20416.

SUPPLEMENTARY INFORMATION: Notice is hereby given that as a result of the President's major disaster declaration on 4/14/2005, applications for disaster loans may be filed at the address listed above or other locally announced locations.

The following areas have been determined to be adversely affected by the disaster:

Primary Counties:

Bradford, Bucks, Columbia, Luzerne, Monroe, Northampton, Pike, Wayne, and Wyoming.

Contiguous Counties:

Pennsylvania: Carbon, Lackawanna, Lehigh, Lycoming, Montgomery, Montour, Northumberland, Philadelphia, Schuylkill, Sullivan, Susquehanna, and Tioga.

New Jersey: Burlington, Hunterdon, Mercer, Sussex, and Warren.

New York: Broome, Chemung, Delaware, Orange, Sullivan, and Tioga.

The Interest Rates are:

| Percent
Homeowners With Credit Available Elsewhere: | 5.875
Homeowners Without Credit Available Elsewhere: | 2.937
Businesses With Credit Available Elsewhere: | 6.000
Businesses & Small Agricultural Cooperatives Without Credit Available Elsewhere: | 4.000
Other (Including Non-Profit Organizations) With Credit Available Elsewhere: | 4.750
Businesses and Non-Profit Organizations Without Credit Available Elsewhere: | 4.000

The number assigned to this disaster for physical damage is 101116 and for economic injury is 101120.

(Catalog of Federal Domestic Assistance Numbers 59002 and 59008)
Herbert L. Mitchell,
Associate Administrator for Disaster Assistance.

[FR Doc. 05-8674 Filed 4-29-05; 8:45 am]

BILLING CODE 8025-01-P